ENVIRONMENTAL PROTECTION AGENCY

[FRL-7933-4]

EPA Science Advisory Board Staff Office; Request for Nomination of Candidates for the EPA Science Advisory Board Committees

AGENCY: Environmental Protection Agency.

ACTION: Notice.

SUMMARY: The U.S. Environmental Protection Agency's Science Advisory Board (SAB) Staff Office is soliciting nominations for consideration of membership on three SAB standing committees. Nominees in response to this request for nominations will be considered for membership on the SAB Drinking Water, Ecological Processes and Effects, and Radiation Advisory Committees. This process supplements other efforts to identify qualified candidates.

DATES: Nominations should be submitted in time to arrive no later than August 5, 2005.

FOR FURTHER INFORMATION CONTACT: To submit a hard copy of the form noted below (for those unable to submit the information in electronic form), please contact Ms. Patricia L. Thomas, U.S. EPA SAB Staff Office (Mail Code 1400F), 1200 Pennsylvania Avenue, NW., Washington, DC 20460 (FedEx/Courier address: U.S. EPA SAB, Suite 3600, 1025 F Street, NW., Washington DC 20004), (202) 343-9974 (telephone), (202) 233-0643 (fax), or via email at thomas.patricial@epa.gov. Inquiries regarding general scientific work of the SAB may be directed to Dr. Anthony F. Maciorowski, Associate Director for Science, U.S. EPA SAB Staff Office, (202) 343-9983 (telephone), or via email at maciorowski.anthony@epa.gov. Specific inquiries regarding the scientific work of the SAB Drinking Water Committee may be directed to Dr. Suhair Shallal, Designated Federal Officer, U.S. EPA SAB Staff Office, (202) 343-9977 (telephone), or via email at shallal,suhair@epa.gov. Specific inquiries regarding the scientific work of the SAB Ecological Processes and Effects Committee may be directed to Dr. Thomas Armitage, Designated Federal Officer, U.S. EPA SAB Staff Office, (202) 343-9995 (telephone), or via email at armitage,thomas@epa.gov. Specific inquiries regarding the scientific work of the SAB Radiation Advisory Committee may be directed to Dr. Jack Kooyoomjian, Designated Federal Officer, U.S. EPA SAB Staff Office, (202) 343-9984 (telephone), or via email at kooyoomjiam.jack@epa.gov.

Background: The U.S. EPA Science Advisory Board (SAB or the Board) is a chartered Federal Advisory Committee. The SAB was established by statute (42 U.S.C. 4365) to provide independent scientific peer review, advice, and recommendations on the scientific bases of EPA actions as may be requested by the Administrator. As a Federal Advisory Committee, SAB business is conducted in accordance with the Federal Advisory Committee Act (FACA) (5 U.S.C. App. C) and related regulations. Accordingly, the Board announces its meetings in the Federal Register, conducts its business in public view, and provides opportunities for public input during its deliberations.

Members of the Board and its standing committees constitute a distinguished body of non-EPA scientists, engineers, economists, and social scientists who are recognized experts in their respective fields. The Board and its standing committees review a wide variety of EPA science activities. Generally, the Board and its standing committees function as technical peer review panels that critically examine Agency science activities and provide advice and recommendations regarding their technical merit. SAB standing committees have historically conducted most Science Advisory Board work. This notice requests nominations specifically for three SAB standing committees including: The Drinking Water Committee (DWC); the Ecological Processes and Effects Committee (EPEC); and the Radiation Advisory Committee (RAC). Typical subject matter for standing committee review may include research strategies, multi-year research plans, science initiatives, risk assessments, or agency guidance corresponding to specific subject matter designated by the standing committee title. Additional information about the SAB, and its standing committees can be accessed at the SAB Web site http://www.epa.gov/sab.

Expertise Sought: The SAB Staff Office is seeking nominations of nationally and internationally recognized non-EPA scientists for consideration of membership on the SAB Committees. The desired expertise for each committee is described below.

The Drinking Water Committee provides independent advice to the EPA Administrator, through the chartered SAB, on scientific aspects of EPA's national drinking water criteria and standards program. Ideal nominees for the SAB Drinking Water Committee will demonstrate nationally recognized scientific expertise and research experience in one of the following areas: Clinical public health or clinical epidemiology of disease from pathogens, contaminants or mixtures of contaminants.

The Ecological Processes and Effects Committee provides independent advice to the EPA Administrator, through the chartered SAB, on scientific issues related to EPA environmental programs and supporting science and research to protect, sustain and restore the integrity of ecosystems. Ideal nominees for the Ecological Processes and Effects Committee will demonstrate nationally recognized scientific expertise and research experience in one of the following areas: Water quality criteria development for the protection of aquatic life; ecological risk assessment; biological or ecological indicators; or landscape ecology.

The Radiation Advisory Committee provides independent advice to the EPA Administrator, through the chartered SAB, on radiation protection, radiation science, and radiation risk assessment. Ideal nominees for the SAB Radiation Advisory Committee will demonstrate nationally recognized scientific expertise and research experience in one of the following areas: Health physics or biophysics with specialties in radiation dosimetry or radiation biology; or geochemistry, geology, hydrology or soil science with specialties in modeling, radioactive waste management, or radiation risk assessment.

How to Submit Nominations: Any interested person or organization may nominate qualified persons to be considered for appointment to these SAB standing committees. Individuals may self-nominate. Qualified nominees will demonstrate appropriate scientific education, training, and experience to evaluate basic and applied science issues addressed by the standing committees. Successful nominees will have distinguished themselves professionally and be available to invest the time and effort in providing advice and recommendations on the development and application of science at EPA. Nominations should be submitted in electronic format (which is preferred over hard copy) through the Form for Nominating Individuals to Panels of the EPA Science Advisory Board provided on the SAB Web site. The form can be accessed through a link on the blue navigational bar on the SAB Web site at: http://www.epa.gov/sab. To be considered, all nominations should include the information requested on that form.

The nominating form requests contact information about: The person making the nomination; contact information about the nominee; the disciplinary and specific areas of expertise of the nominee; the nominee's resume; and a general biosketch of the nominee indicating current position, educational background; areas of expertise and research activities; and recent service on other advisory committees or with professional associations. Persons who are unable to submit nominations through the SAB Web site should contact Ms. Patricia L. Thomas, as indicated above in this notice. Non-electronic submissions must follow the same format and contain the same information as the electronic form. The SAB Staff Office will acknowledge receipt of nominations.

The SAB Staff Office seeks nominees who possess the necessary domains of knowledge, and relevant scientific perspectives (which, among other factors, can be influenced by work history and affiliation) to adequately address scientific issues facing the Agency. General criteria for overall committee membership include the collective breadth and depth of scientific perspectives; a balance of scientific perspectives; continuity of knowledge and understanding of EPA missions and environmental programs, and diversity factors (e.g., geographical areas and professional affiliations). Specific criteria to be used in evaluating potential members include: (a) Scientific and/or technical expertise, knowledge, and experience (primary factors); (b) absence of financial conflicts of interest; (c) scientific credibility and impartiality; (d) availability and willingness to serve; and (e) ability to work constructively and effectively on committees.

During the selection process, nominees will be required to submit the “Confidential Financial Disclosure Form for Special Government Employees Serving on Federal Advisory Committees at the U.S. Environmental Protection Agency” (EPA Form 3110-48). This confidential form allows Government officials to determine whether there is a statutory conflict between that person's public responsibilities as a Special Government Employee and private interests and activities, or the appearance of a lack of impartiality, as defined by Federal regulation. The form may be viewed and downloaded from the following URL address: http://www.epa.gov/sab/pdf/epaform3110-48.pdf. This form should not be submitted as part of a nomination.

Dated: June 28, 2005.
Anthony F. Maciorowski,
Acting Director, EPA Science Advisory Board Staff Office.

[FR Doc. 05-13277 Filed 7-5-05; 8:45 am]

BILLING CODE 6560-50-P